DEPARTMENT OF AGRICULTURE

Animal and Plant Health Inspection Service

7 CFR Part 301

[Docket No. APHIS-2011-0036]

Golden Nematode; Removal of Regulated Areas

AGENCY: Animal and Plant Health Inspection Service, USDA.

ACTION: Interim rule and request for comments.

SUMMARY: We are amending the golden nematode regulations by removing the townships of Elba and Byron in Genesee County, NY, from the list of generally infested areas. Surveys have shown that the fields in these two townships are free of golden nematode, and we have determined that regulation of these areas is no longer necessary. As a result of this action, all the areas in Genesee County, NY, that have been listed as generally infested will be removed from the list of areas regulated for golden nematode.

DATES: This interim rule is effective September 29, 2011. We will consider all comments that we receive on or before November 28, 2011.

ADDRESSES: You may submit comments by either of the following methods:

• Federal eRulemaking Portal: Go to http://www.regulations.gov/#!documentDetail;D=APHIS-2011-0036-0001.

• Postal Mail/Commercial Delivery: Send your comment to Docket No. APHIS-2011-0036, Regulatory Analysis and Development, PPD, APHIS, Station 3A-03.8, 4700 River Road Unit 118, Riverdale, MD 20737-1238.

Supporting documents and any comments we receive on this docket may be viewed at http://www.regulations.gov/#!docketDetail;D=APHIS-2011-0036 or in our reading room, which is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Mr. Jonathan M. Jones, National Program Manager, Emergency and Domestic Programs, Plant Protection and Quarantine, APHIS, 4700 River Road Unit 137, Riverdale, MD 20737; (301) 734-5038.

SUPPLEMENTARY INFORMATION:

Background

The golden nematode (Globodera rostochiensis) is a destructive pest of potatoes and other solanaceous plants. Potatoes cannot be economically grown on land which contains large numbers of the nematode. The golden nematode has been determined to occur in the United States only in parts of the State of New York.

In 7 CFR part 301, the golden nematode quarantine regulations (§§ 301.85 through 301.85-10, referred to below as the regulations) set out procedures for determining the areas regulated for golden nematode and impose restrictions on the interstate movement of regulated articles from regulated areas.

Paragraph (a) of § 301.85-2 states that the Deputy Administrator, Plant Protection and Quarantine, Animal and Plant Health Inspection Service (APHIS), shall list as regulated areas each quarantined State or each portion thereof in which golden nematode has been found or in which there is reason to believe that golden nematode is present, or which it is deemed necessary to regulate because of their proximity to infestation or their inseparability for quarantine enforcement purposes from infested localities. The townships of Elba and Byron in Genesee County, NY, were regulated for golden nematode in 1977 on the basis of their proximity to and association with three fields in Orleans County, NY, in which golden nematode was detected.

Paragraph (c) of § 301.85-2 states that, in accordance with the criteria listed in § 301.85-2(a), the Deputy Administrator shall terminate the designation of any area listed as a regulated area and suppressive or generally infested area when he or she determines that such designation is no longer required. From 1977 until 2010, potato production fields in the townships of Elba and Byron have had a sequence of surveys with negative laboratory results for the detection of golden nematode. As a result, it is no longer necessary to regulate these townships in Genesee County, NY, and restrict interstate movement of golden nematode regulated articles from these townships. This is the first time APHIS has removed an area that had been listed as generally infested with golden nematode from regulation.

Immediate Action

Immediate action is warranted to relieve restrictions that are no longer necessary on two townships in Genesee County, NY, that have been regulated for golden nematode. Under these circumstances, the Administrator, APHIS, has determined that prior notice and opportunity for public comment are contrary to the public interest and that there is good cause under 5 U.S.C. 553 for making this action effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This interim rule is subject to Executive Order 12866. However, for this action, the Office of Management and Budget has waived its review under Executive Order 12866.

In accordance with the Regulatory Flexibility Act, we have analyzed the potential economic effects of this action on small entities. The analysis is summarized below. The full analysis may be viewed on the Regulations.gov Web site (see ADDRESSES above for instructions for accessing Regulations.gov) or obtained from the person listed under FOR FURTHER INFORMATION CONTACT.

This rule codifies a Federal Order issued in December 2010, removing the townships of Elba and Byron in Genesee County, NY, from the areas listed in § 301.85-2a as regulated because of the golden nematode. These two townships are the first areas removed from the golden nematode quarantine.

In 2007, there were 13 farms in Genesee County that harvested potatoes. These farms represented about 2 percent of such farms in New York, and comprised about 6 percent of the State's acres of harvested potatoes. New York farms that harvested potatoes in 2007 represented about 6 percent of such farms in the United States and held about 2 percent of the U.S. acres of harvested potatoes.

Affected entities will benefit from no longer needing to satisfy compliance requirements of the quarantine. They are also expected to find improved export opportunities. While the potato farms in the two townships qualify as small entities, they are few in number and their share of the U.S. potato industry is minor.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no new information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, we are amending 7 CFR part 301 as follows:

PART 301—DOMESTIC QUARANTINE NOTICES

1. The authority citation for part 301 continues to read as follows:

Authority: 7 U.S.C. 7701-7772 and 7781-7786; 7 CFR 2.22, 2.80, and 371.3.

Section 301.75-15 issued under Sec. 204, Title II, Public Law 106-113, 113 Stat. 1501A-293; sections 301.75-15 and 301.75-16 issued under Sec. 203, Title II, Public Law 106-224, 114 Stat. 400 (7 U.S.C. 1421 note).

§ 301.85-2a [Amended]

2. In § 301.85-2a, under the heading New York, in paragraph (1), the entry for Genesee County is removed.

Done in Washington, DC, this 23rd day of September 2011.
Kevin Shea,
Acting Administrator, Animal and Plant Health Inspection Service.

[FR Doc. 2011-25088 Filed 9-28-11; 8:45 am]

BILLING CODE 3410-34-P